POSTAL SERVICE

39 CFR Part 20

International Product and Price Changes

AGENCY: Postal Service™.

ACTION: Final rule.

SUMMARY: The Postal Service is revising Mailing Standards of the United States Postal Service, International Mail Manual (IMM®, to reflect the prices, product features, and classification changes to Competitive Services, as established by the Governors of the Postal Service.

DATES: Effective date: April 26, 2015.

FOR FURTHER INFORMATION CONTACT: Paula Rabkin at 202-268-2537.

SUPPLEMENTARY INFORMATION: New prices will be posted under Docket Number CP2015-33 on the Postal Regulatory Commission's Web site at http://www.prc.gov.

This final rule describes the international price and classification changes and the corresponding mailing standards changes for the following Competitive Services:

• Global Express Guaranteed ® (GXG ®).

• Priority Mail Express International™.

• Priority Mail International ®.

• First-Class Package International Service™.

• International Priority Airmail™ (IPA ®).

• International Surface Air Lift ® (ISAL ®).

• Direct Sacks of Printed Matter to One Addressee (Airmail M-bags).

• International Extra Services:

○ Certificate of Mailing.

○ Registered Mail™Service.

○ Return Receipt Service.

New prices will be located on the Postal Explorer® Web site at http://pe.usps.com.

Global Express Guaranteed

Global Express Guaranteed (GXG) is the Postal Service's premier international expedited product provided through an alliance with FedEx Express ®. The price increase for GXG service averages 7.2 percent.

The Postal Service continues to provide Commercial Base pricing to online customers who prepare and pay for GXG shipments via USPS-approved payment methods, with variable discounts up to 16 percent off the published retail prices for GXG.

The Postal Service also continues to offer Commercial Plus pricing price incentives for large volume customers who commit to tendering $100,000 in annual postal revenue from GXG, Priority Mail Express International (PMEI), Priority Mail International (PMI), and First-Class Package International Service (FCPIS ®) via USPS-approved payment methods, with variable discounts up to 24 percent off the published retail prices for GXG.

Priority Mail Express International

Priority Mail Express International (PMEI) service provides fast service to approximately 180 countries. A money-back guarantee service (exceptions apply) is available for certain destinations. The price increase for PMEI service averages 6.7 percent. The Commercial Base price and Commercial Plus price for customers that prepare and pay for PMEI shipments via permit imprint, online at USPS.com®, or as registered end-users using an authorized PC Postage vendor will remain a variable discount (based on the item's weight and price group) of up to 13 percent below the retail price for Commercial Base price and up to 25 percent below the retail price for Commercial Plus price.

The Postal Service continues to offer PMEI Commercial Plus pricing that includes discount price incentives to large volume customers who commit to tendering at least $100,000 in annual postal revenue from GXG, PMEI, Priority Mail International and First-Class Package International Service. The Postal Service will continue to include PMEI in customized Global Expedited Package Services (GEPS) contracts offered to customers who meet certain revenue thresholds and are willing to commit to a larger amount of postal revenue for PMEI and Priority Mail International.

Priority Mail International

Priority Mail International (PMI) is a way to send merchandise and documents to about 180 countries. The price increase for PMI service averages 6.8 percent. The Commercial Base price and Commercial Plus price for customers that prepare and pay for PMI items via permit imprint, online at USPS.com, or as registered end-users using an authorized PC Postage vendor will remain a variable discount (based on the item's weight and price group) of up to 13 percent below the retail price for Commercial Base price and up to 21 percent below the retail price for Commercial Plus price. Large volume mailers who commit to tendering at least $100,000 in annual postal revenue from GXG, PMEI, PMI, and First-Class Package International Service may request authorization for Commercial Plus discount prices. The Postal Service will continue to include PMI in customized Global Expedited Package Services (GEPS) contracts offered to customers who meet certain revenue thresholds and are willing to commit to a larger amount of revenue to the USPS® for PMEI and PMI.

In this filing we are proposing a structural change to create price zones for PMI to Canada. New zoned prices, based on the origin ZIP Code for PMI destined to Canada, will encourage customers to better use our network and allow us to compete more effectively in major metropolitan markets from which U.S. businesses export and where the Postal Service operates an international gateway (International Service Center).

An additional classification change is an increase to 66 pounds from 44 pounds for the maximum weight for PMI Country Price Group 17 (Netherlands).

First-Class Package International Service

First-Class Package International Service (FCPIS) is an economical international service for small packages weighing less than 4 pounds and not exceeding $400 in value. The pricing structure for FCPIS will continue to be simpler than for some other international products, with one retail price worldwide for 1 to 2 ounces, identical prices for 3 to 4 ounces within each country price group, and identical prices for 5 to 8 ounces within each country price group. The price increase for FCPIS averages 7.2 percent. The Commercial Base price and Commercial Plus price for customers that prepare and pay for FCPIS items via permit imprint or by USPS-approved online payment methods will remain a variable discount (based on the item's weight and price group) of up to 10 percent below the retail price for Commercial Base price and up to 16 percent below the retail price for Commercial Plus price. Large volume mailers who commit to tendering at least $100,000 in annual postal revenue from GXG, PMEI, PMI, and FCPIS may request authorization for Commercial Plus discount prices.

International Priority Airmail and International Surface Air Lift

Published prices for the commercial international Shipping Services, which include International Priority Airmail (IPA) and International Surface Air Lift (ISAL), will have an overall price increase of 4.5 percent. The structure of IPA and ISAL price categories will continue to be priced by the worldwide and 19 country price groups and applicable mail shapes (letters and postcards, large envelopes [flats], and packages [small packets and rolls]). These categories correspond to the Universal Postal Convention requirements to use shape-based pricing. For IPA and ISAL, the Postal Service offers incentive pricing through International Negotiated Service Agreements (NSAs).

International Priority Airmail (IPA) service, including IPA M-bags, is a bulk commercial service that provides rapid and economical worldwide delivery to business mailers for volume mailings of First-Class Mail International postcards, letters, large envelopes (flats), and FCPIS packages (small packets) weighing up to a maximum 4.4 pounds. IPA is dispatched to the destination country where it is entered into the postal administration's air or surface priority mail system for delivery. The overall price increase for IPA service averages 4.5 percent.

International Surface Air Lift (ISAL) service, including ISAL M-Bags, is a bulk commercial service that provides economical worldwide delivery to business mailers of volume mailings of all First-Class Mail International postcards, letters, large envelopes (flats), and FCPIS packages (small packets) weighing up to 4.4 pounds. ISAL is dispatched to the destination country where it is then entered into the postal administration's surface nonpriority network. The overall price increase for ISAL service averages 4.5 percent.

Direct Sacks of Printed Matter to One Addressee (Airmail M-bags)

Airmail M-bags are direct sacks of printed matter sent to a single foreign addressee at a single address. Prices are based on the weight of the sack. The price increase for Airmail M-bags averages 6.8 percent.

International Extra Services

Depending on country destination and mail type, customers may add a variety of extra services to their outbound shipments. Prices for some of these extra services are increasing. Also, as a housekeeping measure, we will remove provisions concerning Inbound International Return Receipt and Inbound International Insurance from the Mail Classification Schedule, as these are products offered by foreign postal administrations to their countries' mailers, not USPS mail products.

For our competitive offerings, we revised the prices for the following international extra services:

Certificate of Mailing

The price for Certificate of Mailing will increase 2.5 percent.

Registered Mail

The price for Registered Mail will increase 2.2 percent.

Return Receipt

The price for Return Receipt for International Mail will increase 2.7 percent.

Priority Mail Express International Insurance and Priority Mail International Insurance

The insurance tables for Priority Mail Express International (PMEI) and Priority Mail International (PMI) will be combined into one table to simplify pricing.

List of Subjects in 39 CFR Part 20

Foreign relations, International postal services.

The Postal Service hereby adopts the following changes to Mailing Standards of the United States Postal Service, International Mail Manual (IMM), which is incorporated by reference in the Code of Federal Regulations. See 39 CFR 20.1. Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

2 Conditions for Mailing

* * * * *

220 Priority Mail Express International

* * * * *

222.8 Extra Services—Merchandise Insurance

[Revise second sentence of 222.8 to read as follows:]

* * * See Exhibit 322.2 for individual country merchandise insurance limits.* * *

* * * * *

230 Priority Mail International

* * * * *

232.3 Priority Mail International Medium and Large Flat Rate Boxes

[Revise next to last sentence about insurance to read as follows:]

* * * Medium and Large Flat Rate Boxes may be insured—see Exhibit 322.2 for insurance availability and limitations.

* * * * *

3 Insurance

* * * * *

322 Priority Mail Express International Insurance

* * * * *

322.2 Availability

[Delete last sentence of 322.2 and replace with new sentence about Exhibit 322.2 as follows:]

* * * See Exhibit 322.2 for availability and insurance limits.

[Insert new Exhibit 322.2 to read as shown in the table appended to the end of this Federal Register Notice.]

322.3 Additional Coverage and Fees

[Revise 322.3 to read as follows:]

Additional merchandise insurance coverage above $200—up to the maximum amount allowed by the country (see Exhibit 322.2) but never to exceed $5,000—may be purchased at the sender's option. The insurance fee is in addition to postage and other applicable fees. See Notice 123, Price List, for the fee schedule for optional Priority Mail Express International merchandise insurance coverage.

* * * * *

323 Priority Mail International Insurance

* * * * *

323.2 Availability

[Replace second sentence of 323.2 to read as follows:]

* * * See Exhibit 322.2.* * *

323.3 Coverage and Fees

[Revise the first sentence of 323.3 to read as follows and delete the second sentence in its entirety:]

Merchandise insurance coverage—up to the maximum amount allowed by the country (see Exhibit 322.2) but never to exceed $5,000—may be purchased at the sender's option. The insurance fee is in addition to postage and other applicable fees and is based on the insured value.* * *

* * * * *

Country Price Groups and Weight Limits

* * * * *

[Change the weight for Netherlands Priority Mail International to 66 pounds so that the entry for Netherlands reads as follows:]

Country | Global express guaranteed: Price group | Global express guaranteed: Max. wt. (lbs.) | Priority mail express international: Price group | Priority mail express international: Max. wt. (lbs.) | Priority mail international ¹: Price group | Priority mail international ¹: Max. wt. (lbs.) | First-class mail international and first-class package international service: Price group | First-class mail international and first-class package international service: Max. wt. ² (ozs./lbs.)
Netherlands | 3 | 70 | 17 | 66 | 17 | 66 | 5 | 3.5/4

* * * * *

Individual Country Listings

* * * * *

Priority Mail Express International (220)

* * * * *

[For each country that offers Priority Mail Express International merchandise insurance, replace the fee table with the following:]

See Exhibit 322.2 for individual country merchandise insurance limits. See Notice 123, Price List, for the fee schedule for Priority Mail Express International merchandise insurance coverage.

* * * * *

Priority Mail International (230)

* * * * *

[For each country that offers Priority Mail International merchandise insurance, replace the fee table with the following:]

See Exhibit 322.2 for individual country merchandise insurance limits. See Notice 123, Price List, for the fee schedule for Priority Mail International merchandise insurance coverage.

* * * * *

Exhibit 322.2

Priority Mail Express International and Priority Mail International Merchandise Insurance Limits
Country | PMEI | PMI
Afghanistan | n/a | n/a
Albania | 5000 | n/a
Algeria | 5000 | n/a
Andorra | 5000 | 5000
Angola | 5000 | n/a
Anguilla | 5000 | 415
Antigua and Barbuda | n/a | 60
Argentina | 5000 | 5000
Armenia | 5000 | 875
Aruba | 5000 | 830
Ascension | n/a | n/a
Australia | 5000 | 3644
Austria | 5000 | 5000
Azerbaijan | 5000 | 2915
Bahamas | 5000 | 1458
Bahrain | 5000 | n/a
Bangladesh | 5000 | 5000
Barbados | 5000 | 238
Belarus | 5000 | 1312
Belgium | 650 | 650
Belize | 5000 | 1600
Benin | 5000 | n/a
Bermuda | 5000 | 440
Bhutan | 5000 | 22
Bolivia | 5000 | n/a
Bosnia-Herzegovina | 5000 | 5000
Botswana | 5000 | 73
Brazil | 5000 | 2915
British Virgin Islands | n/a | 500
Brunei Darussalam | 5000 | n/a
Bulgaria | 5000 | 1115
Burkina Faso | 5000 | 969
Burma (Myanmar) | n/a | n/a
Burundi | 5000 | 5000
Cambodia | 5000 | n/a
Cameroon | 5000 | n/a
Canada | 5000 | 675
Cape Verde | 5000 | n/a
Cayman Islands | 5000 | n/a
Central African Republic | 5000 | n/a
Chad | 5000 | 185
Chile | 5000 | n/a
China | 5000 | 1222
Colombia | 5000 | 999
Comoros | n/a | 690
Congo, Democratic Republic of the | 5000 | n/a
Congo, Republic of the | 5000 | 1685
Costa Rica | 5000 | n/a
Cote d'Ivoire | 5000 | 5000
Croatia | 5000 | 5000
Cuba | n/a | n/a
Curacao (includes Bonaire, Saba, and Sint Eustatius) | 5000 | 5000
Cyprus | 5000 | 5000
Czech Republic | 5000 | 5000
Denmark | 650 | 650
Djibouti | 5000 | 880
Dominica | 5000 | n/a
Dominican Republic | 5000 | n/a
Ecuador | 5000 | n/a
Egypt | 5000 | 1685
El Salvador | 5000 | n/a
Equatorial Guinea | n/a | n/a
Eritrea | 5000 | n/a
Estonia | 5000 | 2187
Ethiopia | 5000 | n/a
Falkland Islands | n/a | n/a
Faroe Islands | 5000 | 5000
Fiji | 5000 | n/a
Finland | 650 | 650
France | 650 | 650
French Guiana | 5000 | 5000
French Polynesia | 5000 | 4519
Gabon | 5000 | 523
Gambia | n/a | n/a
Georgia, Republic of | 5000 | 1458
Germany | 500 | 500
Ghana | 5000 | n/a
Gibraltar | n/a | n/a
Great Britain and Northern Ireland | 650 | n/a
Greece | 650 | 650
Greenland | n/a | 5000
Grenada | 5000 | 350
Guadeloupe | 5000 | 5000
Guatemala | n/a | n/a
Guinea | 5000 | 948
Guinea-Bissau | 5000 | 2915
Guyana | 5000 | 10
Haiti | 5000 | n/a
Honduras | n/a | n/a
Hong Kong | 5000 | 5000
Hungary | 5000 | 5000
Iceland | 650 | 650
India | 5000 | 2189
Indonesia | 5000 | n/a
Iran | n/a | n/a
Iraq | 5000 | n/a
Ireland | 650 | 650
Israel | 5000 | n/a
Italy | 650 | 650
Ivory Coast (Cote d'Ivoire) | 5000 | 5000
Jamaica | 5000 | n/a
Japan | 5000 | 5000
Jordan | n/a | n/a
Kazakhstan | 5000 | 5000
Kenya | 5000 | 131
Kiribati | n/a | n/a
Korea, Democratic People's Republic of (North Korea) | n/a | n/a
Korea, Republic of (South Korea) | 5000 | 5000
Kosovo, Republic of | n/a | n/a
Kuwait | 5000 | 2000
Kyrgyzstan | 5000 | 5000
Laos | 5000 | n/a
Latvia | 5000 | 1458
Lebanon | 5000 | n/a
Lesotho | 5000 | 440
Liberia | 5000 | 440
Libya | n/a | n/a
Liechtenstein | 5000 | 5000
Lithuania | 5000 | 5000
Luxembourg | 650 | 650
Macao | 5000 | 4227
Macedonia, Republic of | 5000 | 2380
Madagascar | 5000 | 199
Malawi | n/a | n/a
Malaysia | 5000 | 1429
Maldives | 5000 | n/a
Mali | 5000 | n/a
Malta | 5000 | n/a
Martinique | 5000 | 5000
Mauritania | 5000 | 635
Mauritius | 5000 | 165
Mexico | 5000 | n/a
Moldova | 5000 | 2915
Mongolia | 5000 | n/a
Montenegro | n/a | 5000
Montserrat | n/a | 2200
Morocco | 5000 | 5000
Mozambique | 5000 | n/a
Namibia | 5000 | 4405
Nauru | 5000 | 220
Nepal | 5000 | n/a
Netherlands | 650 | 650
New Caledonia | 5000 | 1775
New Zealand | 5000 | 1025
Nicaragua | 5000 | n/a
Niger | 5000 | n/a
Nigeria | 5000 | n/a
Norway | 650 | 650
Oman | 5000 | 575
Pakistan | 5000 | 867
Panama | 5000 | n/a
Papua New Guinea | 5000 | 445
Paraguay | 5000 | n/a
Peru | 5000 | n/a
Philippines | 5000 | n/a
Pitcairn Island | n/a | n/a
Poland | 5000 | 5000
Portugal | 650 | 650
Qatar | 5000 | n/a
Reunion | n/a | 5000
Romania | 5000 | 5000
Russia | 5000 | 5000
Rwanda | 5000 | n/a
Saint Christopher and Nevis | 5000 | 242
Saint Helena | n/a | 170
Saint Lucia | 5000 | n/a
Saint Pierre and Miquelon | n/a | 5000
Saint Vincent and the Grenadines | 5000 | 130
San Marino | 5000 | 5000
Sao Tome and Principe | n/a | 440
Saudi Arabia | 5000 | n/a
Senegal | 5000 | 936
Serbia, Republic of | 5000 | 5000
Seychelles | 5000 | n/a
Sierra Leone | 5000 | n/a
Singapore | 5000 | 3000
Sint Maarten | 5000 | 5000
Slovak Republic (Slovakia) | 650 | 650
Slovenia | 650 | 650
Solomon Islands | 5000 | n/a
Somalia | n/a | n/a
South Africa | 5000 | n/a
Spain | 650 | 650
Sri Lanka | 5000 | 35
Sudan | n/a | n/a
Suriname | n/a | 535
Swaziland | 5000 | 560
Sweden | 650 | 650
Switzerland | 650 | 650
Syrian Arab Republic (Syria) | 5000 | n/a
Taiwan | 5000 | 1350
Tajikistan | 5000 | 5000
Tanzania | 5000 | 248
Thailand | 5000 | 1458
Timor-Leste, Democratic Republic of | n/a | n/a
Togo | 5000 | n/a
Tonga | 5000 | 515
Trinidad and Tobago | 5000 | n/a
Tristan da Cunha | n/a | n/a
Tunisia | 5000 | 3834
Turkey | 5000 | 952
Turkmenistan | 5000 | 729
Turks and Caicos Islands | 650 | n/a
Tuvalu | n/a | 675
Uganda | 5000 | n/a
Ukraine | 5000 | 5000
United Arab Emirates | 5000 | 5000
United Kingdom (Great Britain and Northern Ireland) | 650 | n/a
Uruguay | 5000 | n/a
Uzbekistan | 5000 | 5000
Vanuatu | n/a | n/a
Vatican City | 5000 | 2380
Venezuela | n/a | n/a
Vietnam | 5000 | n/a
Wallis and Futuna Islands | n/a | 1615
Western Samoa | n/a | 295
Yemen | 5000 | 820
Zambia | 5000 | n/a
Zimbabwe | 5000 | n/a

* * * * *

We will publish an appropriate amendment to 39 CFR part 20 to reflect these changes.

Stanley F. Mires,
Attorney, Federal Requirements.

[FR Doc. 2015-02007 Filed 2-2-15; 8:45 am]

BILLING CODE 7710-12-P